INTERNATIONAL TRADE COMMISSION

[Investigation No. 337-TA-705]

In the Matter of Certain Notebook Computer Products and Components Thereof; Notice of Commission Decision Not To Review an Initial Determination Correcting the Claims Asserted From U.S. Patent No. 7,156,693 in the Complaint and Notice of Investigation

AGENCY: U.S. International Trade Commission.

ACTION: Notice.

SUMMARY: Notice is hereby given that the U.S. International Trade Commission has determined not to review an initial determination (“ID”) (Order No. 6) issued by the presiding administrative law judge (“ALJ”) in the above-referenced investigation correcting the claims asserted from U.S. Patent 7,156,693 (“the '693 patent”) in the complaint and notice of investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 24, 2010, based on a complaint filed by Toshiba Corporation of Japan (“Toshiba”). 75 FR 8400. The complaint alleges violations of section 337 of the Tariff Act of 1930 (19 U.S.C. 1337) in the importation into the United States, the sale for importation, and the sale within the United States after importation of certain notebook computer products and components thereof by reason of infringement of the '693 patent and U.S. Patent No. 5,430,867. The complaint names three respondents.

On March 8, 2010, Toshiba moved to amend the complaint and notice of investigation to correct the claims asserted from the '693 patent. In particular, Toshiba's motion indicates that claim 7 was erroneously identified instead of claim 4. Neither the Commission Investigative Attorney nor any of the respondents opposed this motion.

On March 9, 2010, the ALJ issued the subject ID correcting the claims asserted from the ‘693 patent to include claims 1, 2, 4, 5, 9, 15-17, and 20-22. No petitions for review of the ID were filed.

The Commission has determined not to review the ALJ's ID.

The authority for the Commission's determination is contained in section 337 of the Tariff Act of 1930, as amended (19 U.S.C. 1337), and in section 210.42 of the Commission's Rules of Practice and Procedure (19 CFR 210.42).

Issued: March 31, 2010.
By order of the Commission.
Marilyn R. Abbott,
Secretary to the Commission.

[FR Doc. 2010-7681 Filed 4-5-10; 8:45 am]

BILLING CODE 7020-02-P